DEPARTMENT OF EDUCATION

[Docket No.: ED-2017-ICCD-0105]

Agency Information Collection Activities; Comment Request; Annual Progress Reporting Form for the American Indian Vocational Rehabilitation Services (AIVRS) Program

AGENCY: Office of Special Education and Rehabilitative Services (OSERS), Department of Education (ED).

ACTION: Notice.

SUMMARY: In accordance with the Paperwork Reduction Act of 1995, ED is proposing an extension of an existing information collection.

DATES: Interested persons are invited to submit comments on or before September 18, 2017.

ADDRESSES: To access and review all the documents related to the information collection listed in this notice, please use http://www.regulations.gov by searching the Docket ID number ED-2017-ICCD-0105. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 216-32, Washington, DC 20202-4537.

FOR FURTHER INFORMATION CONTACT: For specific questions related to collection activities, please contact August Martin, 202-245-7410.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Annual Progress Reporting Form for the American Indian Vocational Rehabilitation Services (AIVRS) Program.

OMB Control Number: 1820-0655.

Type of Review: An extension of an existing information collection.

Respondents/Affected Public: State, Local, and Tribal Governments.

Total Estimated Number of Annual Responses: 88.

Total Estimated Number of Annual Burden Hours: 968.

Abstract: The Rehabilitation Services Administration (RSA) of the U.S. Department of Education's (ED) Office of Special Education and Rehabilitative Services (OSERS) will use this data collection form to capture the performance data from grantees funded under the American Indian Vocational Rehabilitation Services (AIVRS) program (CFDA # 84.250). RSA and ED will use the information gathered annually to: (a) Comply with reporting requirements under the Education Department General Administration Regulations (EDGAR) 34 CFR part 75.118, (b) provide information annually to Congress on activities conducted under this program, and (c) measure performance on the program in accordance with the program indicators identified in the Government Performance Result Act (GPRA). The proposed changes to the existing form will improve user friendliness, clarity of data questions, and accuracy of data reported. Since the ED no longer collects data regarding common measures, the entire section of the report that collects this data is deleted, further reducing burden. These revisions are not significantly different from the original collection, but are proposed to provide clarity, consistency, and usability. In many areas, the data element language has been modified with direct language instead of passive terminology.

Dated: July 14, 2017.
Tomakie Washington,
Acting Director, Information Collection Clearance Division, Office of the Chief Privacy Officer, Office of Management.

[FR Doc. 2017-15198 Filed 7-19-17; 8:45 am]

BILLING CODE 4000-01-P